FEDERAL ELECTION COMMISSION

[Notice 2005—21]

Filing Dates For the California Special Election in the 48th Congressional District

AGENCY: Federal Election Commission.

ACTION: Notice of filing dates for special election.

SUMMARY: California has scheduled a special general election on October 4, 2005, to fill the U.S. House of Representatives seat in the Forty-Eighth Congressional District vacated by Representative Christopher Cox. Under California law, a majority winner in a special election is declared elected. Should no candidate achieve a majority vote, a special runoff election will be held on December 6, 2005, among the top vote-getters of each qualified political party, including qualified independent candidates.

Committees participating in the California special elections are required to file pre- and post-election reports. Filing dates for these reports are affected by whether one or two elections are held.

FOR FURTHER INFORMATION CONTACT: Mr. Kevin R. Salley, Information Division, 999 E Street, NW., Washington, DC 20463; Telephone: (202) 694-1100; Toll Free (800) 424-9530.

SUPPLEMENTARY INFORMATION:

Principal Campaign Committees

All principal campaign committees of candidates who participate in the California Special General and Special Runoff Elections shall file a 12-day Pre-General Report on September 22, 2005; a Pre-Runoff Report on November 24, 2005; and a Post-Runoff Report on January 5, 2006. (See chart below for the closing date for each report).

If only one election is held, all principal campaign committees of candidates in the Special General Election shall file a 12-day Pre-General Report on September 22, 2005; and a Post-General Report on November 3, 2005. (See chart below for the closing date for each report).

Unauthorized Committees (PACs and Party Committees)

Political committees filing on a semiannual basis in 2005 are subject to special election reporting if they make previously undisclosed contributions or expenditures in connection with the California Special General or Special Runoff Elections by the close of books for the applicable report(s). (See chart below for the closing date for each report).

Committees filing monthly that support candidates in the California Special General or Special Runoff Election should continue to file according to the monthly reporting schedule.

Disclosure of Electioneering Communications (Individuals and Other Unregistered Organizations)

As required by the Bipartisan Campaign Reform Act of 2002, the Federal Election Commission promulgated new electioneering communications rules governing television and radio communications that refer to a clearly identified federal candidate and are distributed within 60 days prior to a special general election (including a special general runoff). 11 CFR 100.29. The statute and regulations require, among other things, that individuals and other groups not registered with the FEC who make electioneering communications costing more than $10,000 in the aggregate in a calendar year disclose that activity to the Commission within 24 hours of the distribution of the communication. See 11 CFR 104.20.

The 60-day electioneering communications period in connection with the California Special General runs from August 5, 2005 through October 4, 2005. The 60-day electioneering communications period in connection with the California Special Runoff runs from October 7, 2005 through December 6, 2005.

Calendar of Reporting Dates for California Special Election
Report | Close of books ¹ | Reg./cert. & overnight mailing date | Filing date
If Only the Special General Is Held (10/04/05), Committees Involved Must File:
Pre-General | 09/14/05 | 09/19/05 | 09/22/05
October Quarterly | 09/30/05 | 10/15/05 | ² 10/15/05
Post-General | 10/24/05 | 11/03/05 | 11/03/05
Year-End | 12/31/05 | 01/31/06 | 01/31/06
If Two Elections Are Held, Quarterly Filing Committees Involved Only in the Special General (10/04/05) Must File:
Pre-General | 09/14/05 | 09/19/05 | 09/22/05
October Quarterly | 09/30/05 | 10/15/05 | ² 10/15/05
If Two Elections Are Held, Committees Filing Semiannually Involved Only in the Special General (10/04/05) Must File:
Pre-General | 09/14/05 | 09/19/05 | 09/22/05
Year-End | 12/31/05 | 01/31/06 | 01/31/06
Quarterly Filing Committees Involved in the Special General (10/04/05) and Special Runoff (12/06/05) Must File:
Pre-General | 09/14/05 | 09/19/05 | 09/22/05
October Quarterly | 09/30/05 | 10/15/05 | ² 10/15/05.
Pre-Runoff | 11/16/05 | 11/21/05 | ² 11/24/05
Post-Runoff | 12/26/05 | 01/05/06 | 01/05/06.
Year-End | 12/31/05 | 01/31/06 | 01/31/06
Semiannual Filing Committees Involved in the Special General (10/04/05) and Special Runoff (12/06/05) Must File:
Pre-General | 09/14/05 | 09/19/05 | 09/22/05
Pre-Runoff | 11/16/05 | 11/21/05 | ² 11/24/05
Post-Runoff | 12/26/05 | 01/05/06 | 01/05/06
Year-End | 12/31/05 | 01/31/06 | 01/31/06
Committees Involved Only in the Special Runoff (12/06/05) Must File:
Pre-Runoff | 11/16/05 | 11/21/05 | ² 11/24/05
Post-Runoff | 12/26/05 | 01/05/06 | 01/05/06
Year-End | 12/31/05 | 01/31/06 | 01/31/06
¹ The period begins with the close of books of the last report filed by the committee. If the committee has filed no previous reports, the period begins with the date of the committee's first activity.
² Notice that this deadline falls on a holiday or a weekend. Filing dates are not extended when they fall on nonworking days.

Dated: August 22, 2005.
Michael E. Toner,
Vice Chairman, Federal Election Commission.

[FR Doc. 05-16948 Filed 8-25-05; 8:45 am]

BILLING CODE 6715-01-P